DEPARTMENT OF THE INTERIOR

National Park Service

[NPS-ADIR-PMSP-18557; PPWOBSADA0, PPMPSAS1Y.Y00000 (155)]

Proposed Information Collection; National Park Service Lost and Found Report

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before August 10, 2015.

ADDRESSES: Send your comments on the IC to Madonna L. Baucum, Information Collection Clearance Officer, National Park Service, 12201 Sunrise Valley Drive (Room 2C114, Mail Stop 242), Reston, VA 20192 (mail); or madonna_baucum@nps.gov (email). Please include “1024-New NPS Lost and Found Report” in the subject line of your comments.

FOR FURTHER INFORMATION CONTACT: To request additional information about this IC, contact Madonna L. Baucum, National Park Service, 12201 Sunrise Valley Drive (Room 2C114, Mail Stop 242), Reston, VA 20192 (mail); or madonna_baucum@nps.gov (email).

SUPPLEMENTARY INFORMATION:

I. Abstract

The National Park Service Act of 1916, 38 Stat 535, 16 U.S.C. 1, et seq., requires that the NPS preserve national parks for the enjoyment, education, and inspiration of this and future generations. The NPS cooperates with partners to extend the benefits of natural and cultural resource conservation and outdoor recreation throughout this country and the world. Each year, visitors to the various units of the National Park System file reports of lost or found items. The NPS utilizes Form 10-166, “Lost-Found Report” to collect the following information from the visitor filing the report:

• Park name, receiving station (if appropriate), and date item was lost or found;

• Name, address, city, state, zip code, email address, and contact phone numbers (cell and home);

• Type of item, detailed description of item, and location where the item was last seen or found;

• Photograph of item (if available); and

• If item was found, does the finder wish to have the item if it is not returned to the owner within 60 days.

II. Data

OMB Control Number: 1024-New.

Title: National Park Service Lost and Found Report.

Service Form Number(s): NPS Form 10-166.

Type of Request: Collection in use without approval.

Description of Respondents: Visitors of NPS units who file reports of lost or found items.

Respondent's Obligation: Voluntary.

Frequency of Collection: On occasion.

Activity | Estimated annual number of responses | Estimated completion time per response | Estimated total annual burden hours
NPS Form 10-166, “Lost-Found Report” | 2,500 | 5 min | 10,000
Totals | 2,500 |  | 10,000

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: June 3, 2015.
Madonna L. Baucum,
Information Collection Clearance Officer, National Park Service.

[FR Doc. 2015-14175 Filed 6-9-15; 8:45 am]

BILLING CODE 4310-EH-P